Title 3—

The President

Memorandum of July 5, 2004

Delegation of Authority Under Section 517(a) of the National Defense Authorization Act for Fiscal Year 2004

Memorandum for the Secretary of Defense

By the authority vested in me the Constitution and the laws of the United States of America, including section 301 of title 3, United States Code, I hereby delegate to you the authority vested in the President under section 517(a) of the National Defense Authorization Act for Fiscal Year 2004 (Public Law 108-136).

The authority delegated by this memorandum may be redelegated in writing no lower than the Under Secretary of Defense level.

Any reference in this memorandum to the provision of any Act shall be deemed to include references to any hereafter-enacted provision of law that is the same or substantially the same as such provision. You are authorized and directed to publish this memorandum in the Federal Register.

B

THE WHITE HOUSE,

Washington, July 5, 2004.

[FR Doc. 04-16040

Filed 7-13-04; 8:45 am]

Billing code 5001-06-P